DEPARTMENT OF COMMERCE

International Trade Administration

[C-533-872]

Finished Carbon Steel Flanges From India: Final Results and Partial Rescission of Countervailing Duty Administrative Review; 2022

AGENCY: Enforcement and Compliance, International Trade Administration, Department of Commerce.

SUMMARY: The U.S. Department of Commerce (Commerce) determines that certain producers and/or exporters of finished carbon steel flanges (steel flanges) from India received countervailable subsidies during the period of review (POR) January 1, 2022, through December 31, 2022. In addition, Commerce is rescinding this review, in part, with respect to 30 companies.

DATES: Applicable June 13, 2025.

FOR FURTHER INFORMATION CONTACT: Preston N. Cox or Amber Hodak, AD/CVD Operations, Office VI, Enforcement and Compliance, International Trade Administration, U.S. Department of Commerce, 1401 Constitution Avenue NW, Washington, DC 20230; telephone: (202) 482-5041 or (202) 482-8034, respectively.

SUPPLEMENTARY INFORMATION:

Background

On September 13, 2024, Commerce published the Preliminary Results of this administrative review in the Federal Register and invited interested parties to comment.¹ On October 24, 2024, Commerce extended the deadline for issuing the final results of this administrative review by 60 days, in accordance with section 751(a)(3)(A) of the Tariff Act of 1930, as amended (the Act).² On December 9, 2024, Commerce tolled certain deadlines in this administrative proceeding by 90 days.³ The deadline for the final results is now June 10, 2025. For a complete description of the events that occurred since the Preliminary Results, see the Issues and Decision Memorandum.⁴

¹ See Finished Carbon Steel Flanges from India: Preliminary Results of Countervailing Duty Administrative Review and Preliminary Intent to Rescind, in Part; 2022, 89 FR 74899 (September 13, 2024) (Preliminary Results), and accompanying Preliminary Decision Memorandum (PDM).

² See Memorandum, “Extension of Deadline for Final Results of Countervailing Duty Administrative Review,” dated October 24, 2024; see also Memorandum, “Clarification of the Extended Deadline for the Final Results of Administrative Review,” dated October 31, 2024. The deadline for the final results was extended to March 12, 2025.

³ See Memorandum, “Tolling of Deadlines for Antidumping and Countervailing Duty Proceedings,” dated December 9, 2024.

⁴ See Memorandum, “Issues and Decision Memorandum for the Final Results of the Countervailing Duty Administrative Review of Finished Carbon Steel Flanges from India; 2022,” dated concurrently with this memorandum (Issues and Decision Memorandum).

Scope of the Order ⁵

⁵ See Finished Carbon Steel Flanges from India: Countervailing Duty Order, 82 FR 40138 (August 24, 2017) (Order).

The merchandise covered by the Order is steel flanges from India. For a complete description of the scope of the Order, see the Issues and Decision Memorandum.⁶

⁶ See Issues and Decision Memorandum.

Rescission of Administrative Review, in Part

As noted in the Preliminary Results, based on our analysis of U.S. Customs and Border Protection (CBP) data, we determine that the companies listed in Appendix III had no reviewable entries of subject merchandise during the POR.⁷ We received no comments or additional information from interested parties regarding these listed companies. Therefore, absent evidence of suspended entries of subject merchandise during the POR, we are rescinding the administrative review of these 30 companies listed in Appendix III of this notice, pursuant to 19 CFR 351.213(d)(3).

⁷ See Preliminary Results, 89 FR at 74900.

Analysis of Comments Received

All issues raised in the case briefs submitted by interested parties are addressed in the Issues and Decision Memorandum. A list of topics discussed in the Issues and Decision Memorandum is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access/trade.gov/public/FRNoticesListLayout.aspx.

Changes Since the Preliminary Results

Based on a review of the record and analysis of comments received from interested parties, we made changes to the Preliminary Results. For a full description of this revision, see the Issues and Decision Memorandum.

Methodology

Commerce conducted this administrative review in accordance with section 751(a)(l)(A) of the Act. For each of the subsidy programs found to be countervailable, Commerce finds that there is a subsidy, i.e., a financial contribution by an “authority” that gives rise to a benefit to the recipient, and that the subsidy is specific.⁸ The subsidy programs under review, and the issues raised in case and rebuttal briefs submitted by the interested parties, are discussed in the Issues and Decision Memorandum.

⁸ See sections 771(5)(B) and (D) of the Act regarding financial contribution; section 771(5)(E) of the Act regarding benefit; and section 771(5A) of the Act regarding specificity.

Companies Not Selected for Individual Review

The Act and Commerce's regulations do not directly address the establishment of rates to apply companies not selected for individual examination when Commerce limits its examination in an administrative review pursuant to section 777A(e)(2) of the Act. However, Commerce normally determines the rates for non-selected companies in reviews in a manner that is consistent with section 705(c)(5) of the Act, which provides the basis for calculating the all-others rate in an investigation. Section 777A(e)(2) of the Act instructs Commerce, as a general rule, to calculate an all-others rate equal to the weighted average of the countervailable subsidy rates established for exporters and/or producers individually examined, excluding any rates that are zero, de minimis, or based entirely on facts available. Accordingly, to determine the rate for companies not selected for individual examination, Commerce's practice is to weight average the net subsidy rates for the selected mandatory respondents, excluding rates that are zero, de minimis, or based entirely on facts available.⁹

⁹ See, e.g., Certain Pasta from Italy: Final Results of the 13th (2008) Countervailing Duty Administrative Review, 75 FR 37386, 37387 (June 29, 2010).

There are 10 companies for which a review was requested and not rescinded, and which were not selected as mandatory respondents or found to be cross-owned with a mandatory respondent.¹⁰ In this review, we find that Norma and RNG received countervailable subsidies at above de minimis rates and not based entirely on facts available. Therefore, we continue determine to assign the companies not selected for individual review a weighted average of the subsidy rates calculated for Norma and RNG using each company's publicly ranged data for the value of its exports of subject merchandise to the United States.¹¹

¹⁰ See Appendix II.

¹¹ See Preliminary Results, 89 FR at 74900.

Final Results of Review

Commerce determines the following net countervailable subsidy rates for the period January 1, 2022, through December 31, 2022:

Company | Subsidy rate (percent ad valorem)
Norma (India) Ltd.; USK Export Private Limited; Uma Shanker Khandelwal and Co.¹² | 2.02
R. N. Gupta & Company Limited | 1.71
Companies Not Selected for Individual Examination ¹³ | 1.81

Disclosure

¹² As discussed in the Preliminary Results PDM at 20, Commerce has found the following companies to be cross-owned with Norma (India) Ltd.: USK Export Private Limited; Uma Shanker Khandelwal and Co.; and Bansidhar Chiranjilal. This rate applies to all cross-owned companies.

¹³ See Appendix II.

Commerce intends to disclose to interested parties the calculations and analysis performed for these final results within five days of any public announcement or, if there is no public announcement, within five days of the date of publication of the notice of final results in the Federal Register, in accordance with 19 CFR 351.224(b).

Assessment

Consistent with sections 751(a)(1) and (a)(2)(C) of the Act and 19 CFR 351.212(b)(2), Commerce has determined, and U.S. Customs and Border Protection (CBP) shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., without 90 days of publication).

Cash Deposit Requirements

Pursuant to section 751(a)(1) of the Act, Commerce intends to instruct CBP to collect cash deposits of estimated countervailing duties for each of the companies listed above on shipments of subject merchandise entered, or withdrawn from warehouse, for consumption on or after the date of publication of the final results of this administrative review, except where the rate calculated in the final results is zero or de minimis. For all non-reviewed firms, we will instruct CBP to continue to collect cash deposits of estimated countervailing duties at the all-others rate or the most recent company-specific rate applicable to the company, as appropriate. These cash deposit instructions, effective upon publication of these final results, shall remain in effect until further notice.

Administrative Protective Order (APO)

This notice also serves as a final reminder to parties subject to an APO of their responsibility concerning the disposition of proprietary information disclosed under APO in accordance with 19 CFR 351.305(a)(3). Timely written notification of the return or destruction of APO materials or conversion to judicial protective order, is hereby requested. Failure to comply with the regulations and terms of an APO is sanctionable violation.

Notification to Interested Parties

Commerce is issuing the final results and publishing this notice in accordance with sections 751(a)(1) and 777(i)(1) of the Act, and 19 CFR 351.221(b)(5).

Dated: June 6, 2025.
Steven Presing,
Acting Deputy Assistant Secretary for Policy and Negotiations.

Appendix I

List of Topics Discussed in the Issues and Decision Memorandum

I. Summary

II. Background

III. Scope of the Order

IV. Use of Facts Otherwise Available and Application of Adverse Inferences

V. Subsidies Valuation

VI. Analysis of Programs

VII. Discussion of the Issues

Comment 1: Whether the Duty Drawback (DDB) Program is Countervailable

Comment 2: Whether the Export Promotion of Capital Goods Scheme (EPCGS) is Countervailable

Comment 3: Whether the Interest Equalization Scheme (IES) is Countervailable

Comment 4: Whether Commerce Correctly Found the Merchandise Export from India Scheme (MEIS) and the Status Holder Incentive (SHIS) to be Countervailable

Comment 5: Whether Commerce Corrected Analyzed the Electricity Duty Exemption Under the State Government of Uttar Pradesh Investment Promotion Scheme/Infrastructure and Industrial Investment Policy (SGUP-EDE) Scheme

Comment 6: Whether the Remission of Duties and Taxes on Export Products (RoDTEP) is Countervailable

Comment 7: Whether the Provision of Carbon Steel Inputs for Less Than Adequate Remuneration (LTAR) is Countervailable

VIII. Recommendation

Appendix II

Companies Not Selected for Individual Examination

1. Balkrishna Steel Forge Pvt. Ltd.

2. C.D. Industries

3. Cetus Engineering Private Limited

4. Echjay Industries Pvt. Ltd.

5. Jai Auto Pvt. Ltd.

6. Jiten Steel Industries

7. Munish Forge Private Limited

8. R.D. Forge

9. Rollwell Forge Pvt. Ltd.

10. Tirupati Forge

Appendix III

Companies for Which the Review Is Rescinded

1. Adinath International

2. Aditya Forge Limited

3. Allena Group

4. Alloyed Steel

5. Bebitz Flanges Works Private Limited

6. CHW Forge

7. CHW Forge Pvt. Ltd.

8. Citizen Metal Depot

9. Corum Flange

10. DN Forge Industries

11. Echjay Forgings Limited

12. Falcon Valves and Flanges Private Limited

13. Heubach International

14. Hindon Forge Pvt. Ltd.

15. Kinnari Steel Corporation

16. M F Rings and Bearing Races Ltd.

17. Mascot Metal Manufacturers

18. OM Exports

19. Punjab Steel Works (PSW)

20. Raaj Sagar Steel

21. Ravi Ratan Metal Industries

22. Renin Piping Products

23. Rolex Fittings India Pvt. Ltd.

24. Rollwell Forge Engineering Components and Flanges

25. SHM (ShinHeung Machinery)

26. Siddhagiri Metal & Tubes

27. Sizer India

28. Steel Shape India

29. Sudhir Forgings Pvt. Ltd.

30. Umashanker Khandelwal Forging Limited

[FR Doc. 2025-10792 Filed 6-12-25; 8:45 am]

BILLING CODE 3510-DS-P